DEPARTMENT OF COMMERCE

National Oceanic and Atmospheric Administration

50 CFR Part 679

[Docket No. 140918791-4999-02]

RIN 0648-XE354

Fisheries of the Exclusive Economic Zone Off Alaska; Reallocation of Pacific Cod in the Central Regulatory Area of the Gulf of Alaska Management Area

AGENCY: National Marine Fisheries Service (NMFS), National Oceanic and Atmospheric Administration (NOAA), Commerce.

ACTION: Temporary rule; reallocation.

SUMMARY: NMFS is reallocating the projected unused amount of Pacific cod from catcher vessels using trawl gear to vessels using pot gear in the Central Regulatory Area of the Gulf of Alaska management area (GOA). This action is necessary to allow the 2015 total allowable catch of Pacific cod in the Central Regulatory Area of the GOA to be harvested.

DATES: Effective December 10, 2015, through 2400 hours, Alaska local time (A.l.t.), December 31, 2015.

FOR FURTHER INFORMATION CONTACT: Josh Keaton, 907-586-7228.

SUPPLEMENTARY INFORMATION: NMFS manages the groundfish fishery in the Gulf of Alaska exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679. Regulations governing sideboard protections for GOA groundfish fisheries appear at subpart B of 50 CFR part 680.

The 2015 Pacific cod total allowable catch (TAC) specified for catcher vessels using trawl gear in the Central Regulatory Area of the GOA is 18,933 metric tons (mt), as established by the final 2015 and 2016 harvest specifications for groundfish in the GOA (80 FR 10250, February 25, 2015). The Administrator, Alaska Region (Regional Administrator) has determined that catcher vessels using trawl gear in the Central Regulatory Area of the GOA will not be able to harvest 2,000 mt of the 2015 Pacific cod TAC allocated to those vessels under § 679.20(a)(12)(i)(B).

In accordance with § 679.20(a)(12)(ii)(B), the Regional Administrator has also determined that vessels using pot gear in the Central Regulatory Area of the GOA currently have the capacity to harvest this excess allocation and reallocates 2,000 mt to vessels using pot gear.

The harvest specifications for Pacific cod in the Central Regulatory Area of the GOA included in the final 2015 harvest specifications for groundfish in the GOA (80 FR 10250, February 25, 2014) are revised as follows: 16,933 mt for catcher vessels using trawl gear and 14,660 mt for vessels using pot gear.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of Pacific cod specified from catcher vessels using trawl gear in the Central Regulatory Area of the GOA to vessels using pot gear in the Central Regulatory Area of the GOA. Since the fishery is currently ongoing, it is important to immediately inform the industry as to the revised allocations. Immediate notification is necessary to allow for the orderly conduct and efficient operation of this fishery, to allow the industry to plan for the fishing season, and to avoid potential disruption to the fishing fleet as well as processors. NMFS was unable to publish a notice providing time for public comment because the most recent, relevant data only became available as of December 8, 2015.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: December 9, 2015.
Emily H. Menashes,
Acting Director, Office of Sustainable Fisheries, National Marine Fisheries Service.

[FR Doc. 2015-31386 Filed 12-9-15; 4:15 pm]

BILLING CODE 3510-22-P